DEPARTMENT OF TRANSPORTATION

Federal Aviation Administration

14 CFR Part 39

[Docket No. 2003-NE-26-AD; Amendment 39-13409; AD 2003-26-11]

RIN 2120-AA64

Airworthiness Directives; General Electric Company (GE) CF6-80E1A2 and -80E1A4 Turbofan Engines; Correction

AGENCY: Federal Aviation Administration, DOT.

ACTION: Final rule; request for comments correction.

SUMMARY: This document makes a correction to Airworthiness Directive (AD) 2003-26-11 applicable to GE CF6-80E1A2 and -80E1A4 turbofan engines with left vertical link bolts part number (P/N) 1304M26P02 installed, and pylon attachment bolts originally torqued to 450-500 lb ft. That AD was published in the Federal Register on January 6, 2004 (69 FR 494). The SUPPLEMENTARY INFORMATION paragraph title, first sentence, and first three words of the second sentence of that paragraph were inadvertently omitted. This document corrects that omission. In all other respects, the original document remains the same.

EFFECTIVE DATE: Effective January 14, 2004.

FOR FURTHER INFORMATION CONTACT: Karen Curtis, Aerospace Engineer, Engine Certification Office, FAA, Engine and Propeller Directorate, 12 New England Executive Park, Burlington, MA 01803-5299; telephone (781) 238-7192; fax (781) 238-7199.

SUPPLEMENTARY INFORMATION: A final rule; request for comments AD, FR Doc. 04-144 applicable to GE CF6-80E1A2 and -80E1A4 turbofan engines with left vertical link bolts part number (P/N) 1304M26P02 installed, and pylon attachment bolts originally torqued to 450-500 lb ft, was published in the Federal Register on January 6, 2004 (69 FR 494). The following correction is needed:

§ 39.13 [Corrected]

On page 494, in the second column, under FOR FURTHER INFORMATION CONTACT: after the seventh line, add “SUPPLEMENTARY INFORMATION: GE has notified the FAA that an unsafe condition may exist on GE CF6-80E1A2 and -80E1A4 turbofan engines. GE advises that”.

Issued in Burlington, MA on January 8, 2004.
Jay J. Pardee,
Manager, Engine and Propeller Directorate, Aircraft Certification Service.

[FR Doc. 04-760 Filed 1-13-04; 8:45 am]

BILLING CODE 4910-13-P